DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of the “Veterans Supplement to the Current Population Survey (CPS),” to be conducted in August 2021, August 2022, and August 2023. A copy of the proposed information collection request can be obtained by contacting the individual listed below in the ADDRESSES section of this notice.

DATES: Written comments must be submitted to the office listed in the Addresses section of this notice on or before March 30, 2021.

ADDRESSES: Send comments to Erin Good, BLS Clearance Officer, Division of Management Systems, Bureau of Labor Statistics, Room 4080, 2 Massachusetts Avenue NE, Washington, DC 20212. Written comments also may be transmitted by email to BLS_PRA_Public@bls.gov.

FOR FURTHER INFORMATION CONTACT: Erin Good, BLS Clearance Officer, at 202-691-7763 (this is not a toll free number). (See ADDRESSES section.)

SUPPLEMENTARY INFORMATION:

I. Background

The CPS has been the principal source of official Government statistics on employment and unemployment since 1940 (75 years). Collection of labor force data through the CPS is necessary to meet the requirements in Title 29, United States Code, Sections 1 and 2. The Veterans Supplement provides information on the labor force status of veterans with a service-connected disability, combat veterans, past or present National Guard and Reserve members, and recently discharged veterans. Also, Afghanistan, Iraq, and Vietnam veterans are identified by location of service. Data are provided by period of service and a range of demographic characteristics. The supplement also provides information on veterans' participation in various transition and employment and training programs. The data collected through this supplement will be used by the U.S. Department of Labor's Veterans Employment and Training Service (VETS) and the U.S. Department of Veterans Affairs (VA) to determine policies that better meet the needs of our Nation's veteran population.

In order to make the information for the supplement more relevant, twenty-four questions are proposed for addition starting with the 2021 Veterans Supplement. New questions include items about veterans' transition from Active Duty to civilian employment, details about working with service-connected disabilities, awareness of VA benefits, and work duties while in the Armed forces. In addition, many questions were revised; most of these changes were made to streamline or clarify language or to update questions to use more current terms. Finally, ten questions are proposed for elimination; these little-used questions include detailed questions about veterans' experiences with Transition Assistance Program workshops, strategies for obtaining employment (networking, etc.), and whether veterans receive a monthly check from the VA for a service-connected disability. The revised questionnaire underwent cognitive testing and expert review.

II. Current Action

Office of Management and Budget clearance is being sought for the Veterans Supplement to the CPS.

A revision of a currently approved collection is needed to continue to provide the Nation with timely information about the labor force status of veterans with a service-connected disability, combat veterans, past or present National Guard and Reserve members, recently discharged veterans, and veterans who have served in Afghanistan, Iraq, or Vietnam. In addition, the Veterans Supplement will provide information to assist VA and VETS to develop programs and policies that smooth veterans' transition into civilian employment, including for veterans with service-connected disabilities.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Veterans Supplement to the CPS.

OMB Number: 1220-0102.

Type of Review: Revision of a currently approved collection.

Affected Public: Households and individuals.

Total Respondents: 7,100.

Frequency: Annually.

Total Responses: 7,100.

Average Time per Response: 4.25 minutes.

Estimated Total Burden Hours: 503 hours.

Comments submitted in response to this notice will be summarized and/or included in the request for Office of Management and Budget approval of the information collection request; they also will become a matter of public record.

Signed at Washington, DC, on January 15, 2021.
Mark Staniorski,
Chief, Division of Management Systems.

[FR Doc. 2021-01935 Filed 1-28-21; 8:45 am]

BILLING CODE 4510-24-P